DEPARTMENT OF COMMERCE

International Trade Administration

[Application No. 85-18A018]

Export Trade Certificate of Review

ACTION: Notice of Issuance of an Amended Export Trade Certificate of Review to U.S. Shippers Association.

SUMMARY: The Secretary of Commerce, through the International Trade Administration, Office of Trade and Economic Analysis (OTEA), issued an amended Export Trade Certificate of Review (“Certificate”) to the U.S. Shippers Association (“USSA”) on May 27, 2014. USSA's application to amend its Certificate was announced in the Federal Register on March 6, 2014 (79 FR 12687). The original Certificate No. 85-00018 was issued to USSA on June 3, 1986 (51 FR 20873). The previous amendment (No. 85-17A18) was issued to USSA on February 15, 2013 (78 FR 13861).

FOR FURTHER INFORMATION CONTACT: Joseph Flynn, Director, Office of Trade and Economic Analysis, International Trade Administration, by telephone at (202) 482-5131 (this is not a toll-free number) or Email at etca@trade.gov.

SUPPLEMENTARY INFORMATION: Title III of the Export Trading Company Act of 1982 (15 U.S.C. 4001-21) authorizes the Secretary of Commerce to issue Export Trade Certificates of Review. The regulations implementing Title III are found at 15 CFR Part 325 (2012). OTEA is issuing this notice pursuant to 15 CFR 325.6(b), which requires the Department of Commerce to publish a summary of the certificate in the Federal Register. Under Section 305(a) of the Act and 15 CFR 325.11(a), any person aggrieved by the Secretary's determination may, within 30 days of the date of this notice, bring an action in any appropriate district court of the United States to set aside the determination on the ground that the determination is erroneous.

Description of Amendments to the Certificate

1. Add the following new Member of the Certificate within the meaning of section 325.2(1) of the Regulations (15 CFR 325.2(1)): PeroxyChem LLC (Philadelphia, PA).

2. Delete the following Members from USSA's Certificate: AKZO Nobel Chemicals Inc. (Chicago, IL); Cray Valley (Exton, PA); AlphaPharma Inc. (Bridgewater, NJ); DeSantis & Associates, Inc. (Missouri City, TX); Rhodia Inc. (Cranbury, NJ); George Avery; JWC and Company, LLC (Canton, Michigan); and Salvatore Di Paola.

USSA's Export Trade Certificate of Review complete amended membership is listed below:

Air Products and Chemicals, Inc., Allentown, PA

AMCOL International Corporation, Arlington Heights, IL

Altimore Consultants LLC, Needville, TX

FMC Corporation, Philadelphia, PA

Guardian Industries Corp., Auburn Mills, MI

LyondellBasell Industries A. F. S.C.A., Rotterdam

PeroxyChem LLC, Philadelphia, PA

Phibro Animal Health Corporation, Teaneck, NJ

Sekisui Specialty Chemicals America, LLC, Dallas, TX

Solvay Chemicals, Inc., Houston, TX

Thomas M. Johnson, Park Ridge, NJ

The effective date of the amended certificate is February 26, 2014, the date on which USSA's application to amend was deemed submitted.

Dated: June 3, 2014.
Joseph Flynn,
Director, Office of Trade and Economic Analysis, International Trade Administration, (202) 482-5131, etca@trade.gov.

[FR Doc. 2014-13608 Filed 6-10-14; 8:45 am]

BILLING CODE 3510-DR-P